DEPARTMENT OF HEALTH AND HUMAN SERVICES

Request for Comments on Proposed NIH, AHRQ and CDC Process Change for Electronic Submission of Grant Applications

AGENCY: Department of Health and Human Services.

ACTION: Process change.

SUMMARY: The National Institutes of Health (NIH), the Agency for Healthcare Research and Quality (AHRQ), and the Center of Disease Control (CDC) seek comments from the public on the impact of eliminating the correction window from the electronic grant application submission process on our applicant organizations and the timing of such a change.

DATES: To assure consideration, comments must be received by April 19, 2010.

ADDRESSES: Individuals and organizations interested in submitting comments may submit them electronically via http://grants.nih.gov/cfdocs/era_process_changes_rfi/add.htm. Although submission via the web is the preferred method of submission as it expedites analysis of comments, e-mails will also be accepted at oer@od.nih.gov.

FOR FURTHER INFORMATION CONTACT: Megan Columbus, NIH Program Manager for Electronic Receipt of Grant Applications, 6705 Rockledge Dr, Suite 5040, Bethesda, MD 20892, e-mail columbum@od.nih.gov concerning programmatic questions.

SUPPLEMENTARY INFORMATION: In December 2005, when NIH began its transition from paper grant application submission to electronic submission using a new application form and the Federal portal, Grants.gov, the agency built into the process a temporary error correction window to ensure a smooth and successful transition for applicants. This window provides applicants a period of time beyond the grant application due date to correct any error or warning notices of noncompliance with application instructions that are identified by NIH's eRA systems. (The standard NIH error correction window is 2 days, but it has been temporarily extended to 5 days to facilitate the transition for applicants to newly restructured, shorter applications.) The NIH is considering the elimination of the error correction window within the year.

Eliminating the error correction window will allow NIH to enforce a fair and consistent submission deadline for all applicants. In addition, eliminating the error correction window will help NIH reduce the time needed to process applications and forward them through the peer review process.

The error correction window was established at a time when an application could take multiple days to get processed by Grants.gov and NIH's eRA systems. The lengthy processing time meant that applicants who applied on time might not receive feedback on the status of their submissions in time to address system identified errors/warnings until after the due date, unless they applied well in advance.

During the initial transition the error correction window also provided an opportunity for applicants to become familiar with the use of the new SF424 (R&R) applications and the new way that long standing business rules would be enforced by electronic systems upon submission.

Since 2005, combined system processing times have improved dramatically, with applications now taking minutes to process through both systems on average instead of days. This improvement provides applicants timely feedback on the status of their applications and allows them to address any system identified errors and warnings immediately, as the systems can process multiple submissions within a short period of time. NIH also has policies in place that do not rely on the error correction window to ensure that applicants are protected from possible eRA Commons or Grants.gov system issues that might keep an application from being received by the submission deadline.

Additionally, elimination of the error correction window will not affect an applicant's ability to submit late applications under the existing NIH Policy on Late Submission of Grant Applications (NOT-OD-06-086 available at http://grants.nih.gov/grants/guide/notice-files/NOT-OD-06-086.html) or for those who have provided substantial review service to NIH to take advantage of NIH's continuous submission policy (http://grants.nih.gov/grants/guide/notice-files/NOT-OD-08-026.html).

NIH is accepting comments from individuals and organizations on the impact of this change. We are also interested in feedback on possible timing of the change. Is there support for making the change in the next 3-6 months, a year, or is more time needed to make the change should the agencies decide to move forward?

Date: March 9, 2010.
Sally J. Rockey,
Acting Deputy Director for Extramural Research, National Institutes of Health.

[FR Doc. 2010-5474 Filed 3-11-10; 8:45 am]

BILLING CODE 4140-01-P